DEPARTMENT OF COMMERCE

International Trade Administration

[A-533-877]

Stainless Steel Flanges From India: Final Results of Antidumping Duty Administrative Review; 2022-2023

AGENCY: Enforcement and Compliance, International Trade Administration, Department of Commerce.

SUMMARY: The U.S. Department of Commerce (Commerce) finds that producers/exporters of stainless steel flanges (flanges) from India subject to this administrative review made sales of subject merchandise in the United States at prices below normal value during the period of review (POR) October 1, 2022, through September 30, 2023.

DATES: Applicable June 5, 2025.

FOR FURTHER INFORMATION CONTACT: Benito Ballesteros, AD/CVD Operations, Office IX, Enforcement and Compliance, International Trade Administration, U.S. Department of Commerce, 1401 Constitution Avenue NW, Washington, DC 20230; telephone: (202) 482-7425.

SUPPLEMENTARY INFORMATION:

Background

On December 28, 2023, Commerce selected the following companies as the mandatory respondents in this administrative review: Chandan Steel Limited (Chandan); and BFN/Viraj.¹ On November 19, 2024, Commerce published the Preliminary Results in the Federal Register and invited interested parties to comment.² On December 9, 2024, Commerce tolled certain deadlines in this administrative proceeding by 90 days.³ The deadline for the final results is now June 17, 2025. For a complete description of the events that have occurred since the Preliminary Results, see the Issues and Decision Memorandum.⁴ Commerce conducted this administrative review in accordance with section 751 of the Tariff Act of 1930, as amended (the Act).

¹ BFN/Viraj is a collective entity consisting of BFN Forgings Private Limited; Fanschen werk Bebitz GmbH; Viraj Alloys, Ltd.; Viraj Forgings, Ltd.; Viraj Impoexpo, Ltd.; and Viraj Profiles Limited. See, e.g., Stainless Steel Flanges from India: Final Affirmative Determination of Sales at Less Than Fair Value and Final Affirmative Critical Circumstance Determination, 83 FR 40745 (August 16, 2018), where Commerce collapsed these entities.

² See Stainless Steel Flanges from India: Preliminary Results and Rescission, in Part, of Antidumping Duty Administrative Review; 2022-2023, 89 FR 91337 (November 19, 2024) (Preliminary Results), and accompanying Preliminary Decision Memorandum (PDM).

³ See Memorandum, “Tolling of Deadlines for Antidumping and Countervailing Duty Proceedings,” dated December 9, 2024.

⁴ See Memorandum, “Issues and Decision Memorandum for the Final Results of the Antidumping Duty Administrative Review of Stainless Steel Flanges from India; 2022-2023,” dated concurrently with, and hereby adopted by, this notice (Issues and Decision Memorandum).

Scope of the Order ⁵

⁵ See Stainless Steel Flanges from India: Antidumping Duty Order, 83 FR 50639 (October 9, 2018) (Order).

The merchandise covered by the Order is flanges from India. For a complete description of the scope of the Order, see the Issues and Decision Memorandum.

Analysis of Comments Received

The issues raised in the case brief are addressed in the Issues and Decision Memorandum. A list of the issues raised is attached to this notice in Appendix I.⁶ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁶ Id.

Changes Since the Preliminary Results

Based on comments received from BFN/Viraj regarding our Preliminary Results, we made certain changes to the margin calculations for BFN/Viraj,⁷ which also affected the rate calculated for companies not selected for individual review.

⁷ For a full description of changes, see Issues and Decision Memorandum.

Rate for Companies Not Selected for Individual Review

Generally, Commerce looks to section 735(c)(5) of the Act, which provides instructions for calculating the all-others rate in a less-than-fair-value (LTFV) investigation, for guidance when calculating the weighted-average dumping margin for respondents that were not individually examined in an administrative review. Section 735(c)(5)(A) of the Act provides that the all-others rate should be calculated by weight averaging the weighted-average dumping margins determined for individually examined respondents, excluding rates that are zero, de minimis, or based entirely on facts available.

For the final results, we calculated estimated weighted-average dumping margins for Chandan and BFN/Viraj that are not zero, de minimis, or based entirely on facts otherwise available. Accordingly, we continue to calculate the review-specific rate using a weighted average of the estimated weighted-average dumping margins calculated for the examined respondents using each company's public ranged sales values for the merchandise under consideration.⁸ The companies not selected for individual examination are listed in Appendix II.

⁸ See Memorandum, “Calculation of the Non-Selected Company Rate for the Final Results,” dated concurrently with this notice; see also, e.g., Xanthan Gum from the People's Republic of China: Preliminary Results of the Antidumping Duty Administrative Review, and Partial Rescission; 2018-2019, 85 FR 75686, 74687 (November 23, 2020), unchanged in Xanthan Gum from the People's Republic of China: Final Results of Antidumping Duty Administrative Review; 2018-2019, 86 FR 16189 (March 26, 2021); Emulsion Styrene-Butadiene Rubber from the Republic of Korea: Preliminary Results of the Administrative Review of the Antidumping Duty Order; 2018-2019, 85 FR 39534 (July 1, 2020), unchanged in Emulsion Styrene-Butadiene Rubber from the Republic of Korea: Final Results of the Administrative Review of the Antidumping Duty Order; 2018-2019, 85 FR 67512 (October 23, 2020); and Albemarle Corp. v. United States, 821 F. 3d 1345 (Fed. Cir. 2016).

Final Results of Review

As a result of this review, we determine that the following estimated weighted-average dumping margins exist for the period October 1, 2022, through September 30, 2023:

Exporter/producer | Weighted- average dumping margin (percent)
Chandan Steel Limited | 0.62
BFN Forgings Private Limited; Fanschen werk Bebitz GmbH; Viraj Alloys, Ltd.; Viraj Forgings, Ltd.; Viraj Impoexpo, Ltd.; and Viraj Profiles Limited | 0.90
Review Specific Rate for Non-Examined Companies ⁹ | 0.73

Disclosure

Commerce intends to disclose to interested parties the calculations performed for these final results of review within five days of any public announcement or, if there is no public announcement, within five days of the publication of this notice in the Federal Register, in accordance with 19 CFR 351.224(b).

⁹ The exporters/producers not selected for individual examination are listed in Appendix II.

Assessment Rates

Pursuant to section 751(a)(2)(C) of the Act, and 19 CFR 351.212(b)(1), Commerce has determined, and U.S. Customs and Border Protection (CBP) shall assess, antidumping duties on all appropriate entries of subject merchandise in accordance with the final results of this review. Pursuant to 19 CFR 351.212(b)(1), for Chandan and BFN/Viraj, we calculated importer-specific ad valorem assessment rates based on the ratio of the total amount of dumping calculated for the examined sales to the total entered value of the sales. For the companies identified in Appendix II that were not selected for individual examination, we will assign an assessment rate based on the methodology described in the “Rate for Companies Not Selected for Individual Review” section, above.

In accordance with Commerce's “automatic assessment” practice, for entries of subject merchandise during the POR produced by Chandan and BFN/Viraj for which the reviewed companies did not know that the merchandise they sold to the intermediary (i.e., a reseller, trading company, or exporter) was destined for the United States, we will instruct CBP to liquidate those entries at the all-others rate (i.e., 7.00 percent),¹⁰ if there is no rate for the intermediate company(ies) involved in the transaction.¹¹

¹⁰ See Stainless Steel Flanges from India: Notice of Court Decision Not in Harmony with the Final Determination of Antidumping Investigation; Notice of Amended Final Determination, 86 FR 50325, 50326 (September 8, 2021) (Amended Final).

¹¹ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the companies listed above will be the rate established in the final results of this review; (2) for merchandise exported by producers or exporters not covered by this review but covered in a prior segment of this proceeding, the cash deposit rate will continue to be the company-specific rate published for the most recently-completed segment of this proceeding in which the company participated; (3) if the exporter is not a firm covered by this review, a previous review, or the LTFV investigation, but the producer is, then the cash deposit rate will be the rate established for the most recently-completed segment of this proceeding for the producer of the merchandise; (4) the case deposit rate for all other producers or exporters will continue to be 7.00 percent,¹² the all-others rate established in the LTFV investigation. These cash deposit requirements, when imposed, shall remain in effect until further notice.

¹² See Amended Final, 86 FR at 50326.

Notification to Importers

This notice serves as a final reminder to importers of their responsibility under 19 CFR 351.402(f)(2) to file a certificate regarding the reimbursement of antidumping duties and/or countervailing duties prior to liquidation of the relevant entries during this review period. Failure to comply with this requirement could result in Commerce's presumption that reimbursement of antidumping and/or countervailing duties occurred and the subsequent assessment of double antidumping duties, and/or increase in the amount of antidumping duties by the amount of the countervailing duties.

Administrative Protective Order (APO)

This notice serves as the only reminder to parties subject to APO of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

We are issuing and publishing this notice in accordance with sections 751(a)(1) and 777(i) of the Act, and 19 CFR 351.221(b)(5).

Dated: May 29, 2025.
Christopher Abbott,
Deputy Assistant Secretary for Policy and Negotiations, performing the non-exclusive functions and duties of the Assistant Secretary for Enforcement and Compliance.

Appendix I

List of Topics Discussed in the Issues and Decision Memorandum

I. Summary

II. Background

III. Scope of the Order

IV. Changes Since the Preliminary Results

V. Discussion of the Issues

Comment 1: Whether Certain Financial Adjustments for BFN/Viraj Were Double Counted

Comment 2: Whether to Change the Names Included in the BFN/Viraj Collective Entity

VI. Recommendation

Appendix II

List of Companies Not Selected for Individual Examination

1. Balkrishna Steel Forge Pvt. Ltd.

2. CD Industries (Prop. Kisaan Engineering Works Pvt. Ltd.)

3. Echjay Forgings Private Limited

4. Fivebros Forgings Private Limited

5. Goodluck India Limited; Goodluck Engineering Co.

6. Jai Auto Pvt. Ltd

7. Jay Jagdamba Limited

8. Jay Jagdamba Forgings Private Limited

9. Kisaan Die Tech Private Limited

10. Pradeep Metals Limited

11. R.N. Gupta & Company Limited

[FR Doc. 2025-10229 Filed 6-4-25; 8:45 am]

BILLING CODE 3510-DS-P